DEPARTMENT OF HEALTH AND HUMAN SERVICES

Centers for Disease Control and Prevention

The National Center for Environmental Health (NCEH) of the Centers for Disease Control and Prevention (CDC) Announces the Following Meeting

Name: Current Status of the Vessel Sanitation Program (VSP) and Experience to Date with Program Operations—Public meeting between CDC and the cruise ship industry, private sanitation consultants, and other interested parties.

Time and Date: 9 a.m.-4 p.m., March 13, 2001.

Place: Auditorium, Port Everglades Administration Building, 1850 Eller Drive, Fort Lauderdale, Florida 33316. Telephone (954) 356-6650; Fax (954) 356-6671.

Status: Open to the public, limited by the space available. The meeting room accommodates approximately 100 people.

Purpose: During the past 15 years, as part of the revised VSP, CDC has conducted a series of public meetings with members of the cruise ship industry, private sanitation consultants, and other interested parties.

This meeting is a continuation of that series of public meetings to discuss current status of the VSP and experience to date with program operations.

Matters To Be Discussed: Agenda items will include a VSP Program Director Update; 2000 Program Review; Update on the implementation of the VSP Program Operations Manual 2000; Revision of the Final Recommended Shipbuilding Construction Guidelines for Cruise Vessels Destined to Call on U.S. Ports; Update on Disease Surveillance and Outbreak Investigations; and VSP Training Seminars.

For a period of 15 days following the meeting, through March 28, 2001, the official record of the meeting will remain open so that additional materials or comments may be submitted to be made part of the record of the meeting. Advanced registration is encouraged. Please provide the following information: Name, title, company name, mailing address, telephone number, facsimile number and E-mail address to Dorothy Johnson, facsimile (770)488-4127 or E-mail: DJJohnson@cdc.gov.

Contact Person for More Information: Dave Forney, Chief, VSP, NCEH, CDC, 4770 Buford Highway, NE, M/S F-16, Atlanta, Georgia 30341-3724, telephone (770)488-7333, E-mail: DForney@cdc.gov.

The Director, Management Analysis and Services office, has been delegated the authority to sign Federal Register notices pertaining to announcements of meetings and other committee management activities, for both the Centers for Disease Control and Prevention and the Agency for Toxic Substances and Disease Registry.

Dated: January 25, 2001.
Carolyn J. Russell,
Director, Management Analysis and Services Office, Centers for Disease Control and Prevention.

[FR Doc. 01-2627 Filed 1-30-01; 8:45 am]

BILLING CODE 4163-18-P